DEPARTMENT OF EDUCATION

Applications for New Awards; Technical Assistance and Dissemination To Improve Services and Results for Children With Disabilities, School Safety National Activities, and Student Support and Academic Enrichment (SSAE) Grants Programs—National Technical Assistance Center on Positive Behavioral Interventions and Supports

AGENCY: Office of Special Education and Rehabilitative Services, Office of Elementary and Secondary Education, Department of Education.

ACTION: Notice.

SUMMARY: The Department of Education (Department) is issuing a notice inviting applications for new awards for fiscal year (FY) 2018 for Technical Assistance and Dissemination to Improve Services and Results for Children With Disabilities, School Safety National Activities, and Student Support and Academic Enrichment (SSAE) Grants Programs—National Technical Assistance Center on Positive Behavioral Interventions and Supports, Catalog of Federal Domestic Assistance (CFDA) number 84.326S.

DATES:

Applications Available: July 25, 2018.

Deadline for Transmittal of Applications: August 24, 2018.

ADDRESSES: For the addresses for obtaining and submitting an application, please refer to our Common Instructions for Applicants to Department of Education Discretionary Grant Programs, published in the Federal Register on February 12, 2018 (83 FR 6003) and available at www.gpo.gov/fdsys/pkg/FR-2018-02-12/pdf/2018-02558.pdf.

FOR FURTHER INFORMATION CONTACT: Renee Bradley, U.S. Department of Education, 400 Maryland Avenue SW, Room 5161, Potomac Center Plaza, Washington, DC 20202-5076. Telephone: (202) 245-7277. Email: Renee.Bradley@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the Technical Assistance and Dissemination to Improve Services and Results for Children with Disabilities program is to promote academic achievement and to improve results for children with disabilities by providing technical assistance (TA), supporting model demonstration projects, disseminating useful information, and implementing activities that are supported by scientifically based research.

The School Safety National Activities Program provides support to State educational agencies (SEAs) and local educational agencies (LEAs) for activities to improve student safety and well-being.

The Student Support and Academic Enrichment (SSAE) Grants Program is intended to improve student academic achievement by increasing the capacity of States, LEAs, schools, and communities to (1) provide all students with access to a well-rounded education, (2) improve school conditions for student learning, and (3) improve the use of technology in order to improve academic achievement and digital literacy.

Priorities: This notice includes three absolute priorities. Applicants must address all three absolute priorities, and we will make one award as a comprehensive investment designed to enhance local and State efforts to improve school climate, conditions for learning, and access to and engagement in the instructional environment, with a focus on students with behavioral challenges, by implementing comprehensive positive behavioral interventions and supports (PBIS) frameworks.

In accordance with 34 CFR 75.105(b)(2)(v), Absolute Priority 1 is from allowable activities specified in the statute (see sections 663 and 681(d) of the Individuals with Disabilities Education Act (IDEA); 20 U.S.C. 1463 and 1481(d)). We are establishing Absolute Priority 2 under title IV, part F, subpart 3, section 4631 of the Elementary and Secondary Education Act of 1965, as amended (ESEA) (20 U.S.C. 7281), and, for the FY 2018 grant competition and any subsequent year in which we make awards from the list of unfunded applications for this competition, in accordance with section 437(d)(1) of the General Education Provisions Act (GEPA) (20 U.S.C. 1232(d)(1)). We are establishing Absolute Priority 3 under title IV, part A, subpart 1 of the ESEA (20 U.S.C. 7101 et seq.) and, for the FY 2018 grant competition and any subsequent year in which we make awards from the list of unfunded applications for this competition, in accordance with section 437(d)(1) of GEPA (20 U.S.C. 1232(d)(1)).

Absolute Priorities: These priorities are absolute priorities. Under 34 CFR 75.105(c)(3), we consider only applications that meet all three of these priorities.

These priorities are:

Absolute Priority 1—Technical Assistance and Dissemination To Improve Services and Results for Children With Disabilities—National Technical Assistance Center on Positive Behavioral Interventions and Supports

Background

The mission of the Office of Special Education and Rehabilitative Services (OSERS) is to improve early childhood, educational, and employment outcomes and raise expectations for all people with disabilities, their families, their communities, and the Nation.

PBIS is a framework or approach for assisting school personnel in adopting and organizing evidence-based behavioral interventions and supports into an integrated continuum that enhances academic and social behavior outcomes for all students. The Department provided additional background about the term PBIS in a notice inviting applications published in the Federal Register on July 5, 2013 (78 FR 40459).¹ The term “positive behavioral interventions and supports” was first used in the 1997 reauthorization of IDEA. PBIS was also included in the 2004 reauthorization of IDEA (e.g., sections 601(c)(5)(F), 611(e)(2)(C)(iii), 614(d)(3)(B)(i), 662(b)(2)(A)(v), and 665), as well as the ESEA.

¹ Available at: www.gpo.gov/fdsys/pkg/FR-2013-07-05/pdf/2013-16191.pdf.

Evidence supports the positive outcomes associated with the effective implementation of PBIS frameworks (Bradshaw, Waasdorp, & Leaf, 2015). When there is fidelity in implementing PBIS frameworks, studies have found the following statistically significant results in schools as compared to schools without PBIS implementation: Improved student perception of school safety and reductions in overall problem behaviors, bullying behaviors, office discipline referrals, chronic absenteeism, and suspensions (Waasdorp, Bradshaw, & Leaf, 2012). Studies have also found a correlation between the use of PBIS procedures and improved social skills and academic achievement (McIntosh, Filter, Bennett, Ryan, & Sugai, 2010; Bradshaw et al., 2009).

Projects funded by the Office of Special Education Programs (OSEP) to date have succeeded in developing and refining the multi-tiered behavioral framework, developing resources for educators, policy makers, students, and families, and building SEA, LEA, and school capacity for implementation of PBIS with fidelity at the universal or primary tier of support and, to some extent, at the more intensive tiers for students with disabilities. Although these projects have documented successful implementation of PBIS and positive outcome data in over 25,000 schools, additional TA is needed to focus on students with more intensive needs and those most likely to be excluded from the learning environment due to behavior that interferes with instruction. In addition, SEAs and LEAs need further assistance to develop and sustain school-wide behavior frameworks and build the capacity and expertise of SEAs and LEAs to address the technical and training needs of their personnel.

Accordingly, the National Technical Assistance Center on PBIS (TA Center) will enable SEAs and LEAs to continue to further develop, expand, and sustain comprehensive, systemic PBIS frameworks that (1) improve students' school behavior; (2) prevent bullying, violence, or disruptive actions that detract from a high-quality education; (3) address exclusionary practices and other disciplinary issues that detract from a high-quality learning environment; and (4) improve overall school climate by facilitating national, regional, State, and district implementation networks.

This priority is consistent with four priorities from the Secretary's Final Supplemental Priorities and Definitions for Discretionary Grant Programs, published in the Federal Register on March 2, 2018 (83 FR 9096) (Supplemental Priorities): Priority 1—Empowering Families and Individuals To Choose a High-Quality Education That Meets Their Unique Needs; Priority 5—Meeting the Unique Needs of Students and Children With Disabilities and/or Those With Unique Gifts and Talents; Priority 8—Promoting Effective Instruction in Classrooms and Schools; and Priority 10—Protecting Freedom of Speech and Encouraging Respectful Interactions in a Safe Educational Environment.

Priority

The purpose of this priority is to fund a cooperative agreement to establish and operate a National Technical Assistance Center for Positive Behavioral Interventions and Supports (PBIS) (TA Center) to assist SEAs and LEAs and national and regional networks, including professional networks and private school associations, to successfully implement and sustain evidence-based (as defined in this notice) PBIS practices and policies, especially for, but not limited to, students with the most significant behavioral challenges that interfere with their ability to fully participate in, and benefit from, a high-quality learning environment in public, private, parochial, alternative, charter, and other educational settings. This investment is needed to continue to assist SEAs and LEAs to enhance their capacity to develop, implement, scale-up, and sustain school-wide frameworks for PBIS to improve behavior and climate and to enable all students to fully participate in, and benefit from, instruction. The applicant must propose to achieve, at a minimum, the following expected outcomes:

(a) Improved infrastructure at the national, regional, State, and district levels to support, develop, and sustain local PBIS implementation efforts;

(b) Improved capacity at the SEA and LEA levels to implement the components of a PBIS framework (i.e., policies, funding, professional development, coaching, data collection, analysis, and use) and develop more tools for selecting and aligning multiple initiatives within the State or district with a special focus on tiers beyond universal (i.e., beyond strategies and supports provided to all students to include strategies that are provided to selected groups of students or individual students) in order to increase the number of schools effectively implementing a PBIS framework;

(c) Improved capacity of SEA and LEA personnel to enhance the knowledge and skills of members of school leadership teams and Individualized Education Program (IEP) Teams to implement PBIS practices and policies to support positive school behavior and respond to behaviors that interfere with a student's ability to fully participate in, and benefit from, a high-quality learning environment (e.g., insubordination, leaving class without permission, chronic absenteeism, and aggression);

(d) Increased use and promulgation by SEAs and LEAs, as well as charter management organizations and private school organizations, of interventions, accommodations, and reliable and valid tools and processes for implementing a behavioral framework, developing local capacity, and measuring fidelity of implementation and outcomes (e.g., reductions in the use of discipline referrals, suspensions, expulsions, restrictive placements, chronic absenteeism, and restraints and seclusion; and improvements in school climate, time engaged in instruction, and overall academic achievement); and

(e) Increased body of knowledge to enhance implementation of PBIS in schools identified for comprehensive support and improvement under section 1111(d)(1) of the ESEA, schools identified for targeted support and improvement under section 1111(d)(2) of the ESEA, rural schools, high schools, alternative public schools, charter schools, mental health settings, private schools, parochial schools, and juvenile correction settings; and develop and improve the quality of information, tools, and resources to address these environments.

Absolute Priority 2—Technical Assistance for Grantees Under the School Safety National Activities Program—National Technical Assistance Center on Positive Behavioral Interventions and Supports

Background

In FY 2014, under Safe and Drug-Free Schools and Communities National Programs (the predecessor ESEA authority to School Safety National Activities) the Department awarded five-year grants to a cohort of SEAs and to a cohort of LEAs under a competition for School Climate Transformation Grants (SCTGs). The grants enabled these SEAs and LEAs to develop, adapt, or expand a multi-tiered decision-making framework that guides the selection, integration, and implementation of the best evidence-based behavioral practices aimed at improving school climate and behavioral outcomes for all students.

The current National Technical Assistance Center on Positive Behavioral Interventions and Supports continues to provide TA to the recipients of SCTGs but began its five-year project period one year earlier than the FY 2014 cohort of SCTGs. As a result, there is a need for the National Technical Assistance Center on Positive Behavioral Interventions and Supports to provide TA to recipients of SCTGs during their fifth and final year, as well as to one or more new cohorts of SCTGs, if additional funds for SCTGs become available.

Priority

The purpose of this priority is to assist SEAs and LEAs that received or will receive SCTGs with developing and implementing PBIS frameworks that are designed to keep students engaged in instruction and improve academic outcomes. To meet this priority, the applicant must at a minimum propose to achieve for School Climate Transformation Grantees the following intended outcomes that support implementing a PBIS framework:

(a) Improved skills of SEA personnel to organize the components of a PBIS framework, such as policies, funding, professional development, coaching, data collection and analysis, and interagency coordination for service provision with State justice, mental health, and other youth services agencies.

(b) Improved skills of LEA personnel to (1) implement the evidence-based practices and skills that comprise the PBIS behavioral framework; (2) collect and use data to inform behavioral decision-making; and (3) develop, including through collaboration with mental health and juvenile justice agencies, the local capacity and expertise needed to implement, scale up, and sustain a PBIS framework and demonstrate the effects of the implementation within the school and the larger school community.

(c) Increased body of knowledge of researchers and practitioners on implementing, scaling up, and sustaining a PBIS framework to provide the behavioral supports to prevent violence and the illegal use of drugs among, and promote safety and discipline for, students.

(d) Increased use by SEAs and LEAs of reliable and valid tools and processes for evaluating the fidelity of the implementation of a PBIS framework and for measuring its outcomes, including reductions in violence and the illegal use of drugs, discipline referrals, suspensions, expulsions, and the use of restraints and seclusion, and improvements in school climate, time spent in instruction, and overall academic achievement.

(e) Increased body of knowledge on the processes to effectively implement PBIS in high-need LEAs ²—including those with schools identified for comprehensive support and improvement under section 1111(d)(1) of the ESEA and schools identified for targeted support and improvement under section 1111(d)(2) of the ESEA—to develop and improve the quality of information, tools, and products to assist initial and sustained implementation of a PBIS framework in these LEAs;

² High-need LEA means an LEA (a) that serves not fewer than 10,000 children from families with incomes below the poverty line; or (b) for which not less than 20 percent of the children served by the LEA are from families with incomes below the poverty line.

(f) Expanded use of the lessons learned from implementing a PBIS framework to: (1) Inform other Federal, State, and district efforts to reduce incidents of violence and illegal drug use by students (including bullying), the use of restraint and seclusion, and the disproportionate application of disciplinary procedures such as suspension and expulsion to minority students and students with disabilities; (2) reduce inappropriate referrals of students to law enforcement; and (3) inform school climate and school mental health initiatives that are supported or will be supported by the Department and other Federal agencies.

Funds under this priority must be used to meet the absolute priority with regard to serving recipients of SCTGs that do not receive assistance under Absolute Priority 3.

Absolute Priority 3—Technical Assistance for Grantees Under the Student Support and Academic Enrichment (SSAE) Grants Program—National Technical Assistance Center on Positive Behavioral Interventions and Supports

Background

Authorized under title IV, part A, subpart 1 of the ESEA, the SSAE Grants Program is intended to improve student academic achievement by increasing the capacity of States, LEAs, schools, and communities to (1) provide all students with access to a well-rounded education, (2) improve school conditions for student learning, and (3) improve the use of technology in order to improve academic achievement and digital literacy. State capacity-building under this priority could include, for example, assisting States in developing or refining PBIS frameworks for implementation by their LEAs.

Priority

The purpose of this priority is to build the capacity of States to assist LEAs that seek to use SSAE funds to improve school conditions for student learning by implementing PBIS frameworks. To meet this priority the applicant must propose to build the capacity of States to assist such LEAs in a manner that achieves, at a minimum, the following intended outcomes that support implementing a PBIS framework:

(a) Improved skills of SEA personnel to organize the components of a PBIS framework, such as policies, funding, professional development, coaching, data collection and analysis, and interagency coordination for service provision with State justice, mental health, and other youth services agencies.

(b) Increased body of knowledge on implementing, scaling up, and sustaining a PBIS framework to provide the behavioral supports to prevent violence and illegal use of drugs among, and promote safety and discipline for, students.

(c) Increased use of reliable and valid tools and processes for evaluating the fidelity of the implementation of a PBIS framework and for measuring its outcomes, including reductions in violence and the illegal use of drugs, discipline referrals, suspensions, expulsions, and the use of restraints and seclusion, and improvements in school climate, time spent on instruction, and overall academic achievement.

(d) Increased body of knowledge on the processes to effectively implement PBIS in high-need schools, high-poverty schools, schools identified for comprehensive support and improvement under section 1111(d)(1) of the ESEA, schools identified for targeted support and improvement under section 1111(d)(2) of the ESEA, or schools identified as persistently dangerous public elementary or secondary schools under section 8532 of the ESEA, to develop and improve the quality of information, tools, and products to assist initial and sustained implementation of a PBIS framework.

(e) Expanded use of the lessons learned from implementing a PBIS framework to (1) inform other Federal, State, and district efforts to reduce incidents of illegal drug use and violence by students (including bullying), the use of restraint and seclusion, and the disproportionate application of disciplinary procedures such as suspension and expulsion to minority students and students with disabilities; and (2) reduce inappropriate referrals of students to law enforcement.

Funds received under this priority must be used to build the capacity of States to assist only LEAs that: (1) Seek to use SSAE funds to improve school conditions for student learning by implementing PBIS frameworks; and (2) are not receiving assistance under Absolute Priority 2.

Requirements: We are establishing the following application and administrative requirements for FY 2018 and any subsequent year in which we make awards from the list of unfunded applications from this competition, in accordance with section 437(d)(1) of GEPA:

(a) Demonstrate, in the narrative section of the application under “Significance,” how the proposed project will—

(1) Improve SEAs' and LEAs' implementation, scaling, and sustainability of evidence-based PBIS practices and policies that are designed to improve school climate and, as needed, to provide additional behavioral supports for students whose behavior interferes with their ability to fully participate in, and benefit from, a high-quality learning environment, including students with disabilities. To meet this requirement, the applicant must—

(i) Present applicable State, regional, or local data demonstrating SEAs' and LEAs' needs related to (A) high-quality implementation of evidence-based PBIS practices and policies and (B) increasing students' ability to fully participate in, and benefit from, a high-quality learning environment, particularly for students with the most significant behavioral challenges;

(ii) Demonstrate knowledge of current educational issues and policy initiatives relating to PBIS and school climate practices and policies for students whose behavioral challenges interfere with their ability to fully participate in, and benefit from, a high-quality learning environment, including students with disabilities; and

(iii) Present information about the current level of implementation of PBIS practices and policies, as well as students' access to more positive school climates that supports their ability to fully participate in, and benefit from, a high-quality learning environment;

(2) Improve outcomes for students with behavioral challenges that interfere with their ability or the ability of their peers to fully participate in, and benefit from, a high-quality learning environment through the implementation of PBIS frameworks, and indicate the likely magnitude or importance of the improvements.

(b) Demonstrate, in the narrative section of the application under “Quality of Project Services,” how the proposed project will—

(1) Ensure equal access and treatment for members of groups that have traditionally been underrepresented based on race, color, national origin, gender, age, or disability. To meet this requirement, the applicant must describe how it will—

(i) Identify the needs of the intended recipients for TA and information; and

(ii) Ensure that services and products meet the needs of the intended recipients of the grant;

(2) Achieve its goals, objectives, and intended outcomes. To meet this requirement, the applicant must provide—

(i) Measurable intended project outcomes; and

(ii) In Appendix A, the logic model (as defined in this notice) by which the proposed project will achieve its intended outcomes that depicts, at a minimum, the goals, activities, outputs, and intended outcomes of the proposed project;

(3) Use a conceptual framework (and provide a copy in Appendix A) to develop project plans and activities, describing any underlying concepts, assumptions, expectations, beliefs, or theories, as well as the presumed relationships or linkages among these variables, and any empirical support for this framework;

Note: The following websites provide more information on logic models and conceptual frameworks: www.osepideasthatwork.org/logicModel and www.osepideasthatwork.org/resources-grantees/program-areas/ta-ta/tad-project-logic-model-and-conceptual-framework.

(4) Be based on current research and make use of evidence-based practices (EBPs). To meet this requirement, the applicant must describe—

(i) The current research on the assessment of the implementation of PBIS frameworks and related EBPs;

(ii) The current research about adult learning principles and implementation science that will inform the proposed TA; and

(iii) How the proposed project will incorporate current research and EBPs in the development and delivery of its products and services;

(5) Develop products and provide services that are of high quality and sufficient intensity and duration to achieve the intended outcomes of the proposed project. To address this requirement, the applicant must describe—

(i) How it proposes to further develop the knowledge base of PBIS;

(ii) Its proposed approach to universal, general TA,³ which must identify the intended recipients, including the type and number of recipients, that will receive the products and services under this approach;

³ “Universal, general TA” means TA and information provided to independent users through their own initiative, resulting in minimal interaction with TA center staff and including one-time, invited or offered conference presentations by TA center staff. This category of TA also includes information or products, such as newsletters, guidebooks, or research syntheses, downloaded from the TA center's website by independent users. Brief communications by TA center staff with recipients, either by telephone or email, are also considered universal, general TA.

(iii) Its proposed approach to targeted, specialized TA,⁴ which must identify—

⁴ “Targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services under this approach; and

(B) Its proposed approach to measure the readiness of potential TA recipients to work with the project, assessing, at a minimum, their current infrastructure, available resources, and ability to build capacity at the local level; and

(iv) Its proposed approach to intensive, sustained TA,⁵ which must identify—

⁵ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) The intended recipients, including the type and number of recipients, that will receive the products and services under this approach;

(B) Its proposed approach to measure the readiness of State- and local-level personnel to work with the project, including their commitment to the initiative, alignment of the initiative to their needs, current infrastructure, available resources, and ability to build capacity at the local level;

(C) Its proposed plan for assisting SEAs, LEAs, charter management organizations, and private school organizations to build or enhance training systems that include professional development based on adult learning principles and coaching; and

(D) Its proposed plan for working with appropriate levels of the education system (e.g., SEAs, regional TA providers, districts, schools, families) to ensure that there is communication between each level and that there are systems in place to support the use of PBIS;

(6) Develop products and implement services that maximize efficiency. To address this requirement, the applicant must describe—

(i) How the proposed project will use technology to achieve the intended project outcomes;

(ii) With whom the proposed project will collaborate and the intended outcomes of this collaboration; and

(iii) How the proposed project will use non-project resources to achieve the intended project outcomes.

(c) In the narrative section of the application under “Quality of the project evaluation,” include an evaluation plan for the project developed in consultation with and implemented by a third-party evaluator.⁶ The evaluation plan must—

⁶ A “third-party” evaluator is an independent and impartial program evaluator who is contracted by the grantee to conduct an objective evaluation of the project. This evaluator must not have participated in the development or implementation of any project activities, except for the evaluation activities, nor have any financial interest in the outcome of the evaluation.

(1) Articulate formative and summative evaluation questions, including important process and outcome evaluation questions. These questions should be related to the project's proposed logic model required in paragraph (b)(2)(ii) of these requirements;

(2) Describe how progress in and fidelity of implementation, as well as project outcomes, will be measured to answer the evaluation questions by, at a minimum:

(i) Specifying the measures and associated instruments or sources for data appropriate to the evaluation questions; and

(ii) Including information regarding reliability and validity of measures where appropriate;

(3) Describe strategies for analyzing data and how data collected as part of this plan will be used to inform and improve service delivery over the course of the project and to refine the proposed logic model and evaluation plan, including subsequent data collection;

(4) Provide a timeline for conducting the evaluation, and include staff assignments for completing the plan. The timeline must indicate that the data will be available annually for the Annual Performance Report (APR) and at the end of Year 2 for the review process described under the heading, Fourth and Fifth Years of the Project; and

(5) Dedicate sufficient funds in each budget year to cover the costs of developing or refining the evaluation plan in consultation with a “third-party” evaluator, as well as the costs associated with the implementation of the evaluation plan by the third-party evaluator.

(d) Demonstrate, in the narrative section of the application under “Adequacy of resources,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients; and

(4) The proposed project will benefit from a diversity of perspectives, including those of families, educators, TA providers, researchers, and policy makers, among others, in its development and operation.

(f) Address the following application requirements. The applicant must—

(1) Include, in Appendix A, personnel-loading charts and timelines, as applicable, to illustrate the management plan described in the narrative;

(2) Include, in the budget, attendance at the following:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or other authorized representative;

(ii) A two and one-half day project directors' conference in Washington, DC, during each year of the project period;

(iii) Three annual two-day trips to attend Department briefings, Department-sponsored conferences, and other meetings, as requested by OSEP; and

(iv) A one-day intensive 3+2 review meeting in Washington, DC, during the last half of the second year of the project period;

(3) Include, in the budget, a line item for an annual set-aside of five percent of the grant amount to support emerging needs that are consistent with the proposed project's intended outcomes, as those needs are identified in consultation with, and approved by, the OSEP project officer. With approval from the OSEP project officer, the project must reallocate any remaining funds from this annual set-aside no later than the end of the third quarter of each budget period;

(4) Maintain a high-quality website, with an easy-to-navigate design, that meets government or industry-recognized standards for accessibility; and

(5) Include, in Appendix A, an assurance to assist OSEP with the transfer of pertinent resources and products and to maintain the continuity of services to States during the transition to this new award period and at the end of this award period, as appropriate.

Fourth and Fifth Years of the Project

In deciding whether to continue funding the project for the fourth and fifth years, the Secretary will consider the requirements of 34 CFR 75.253(a), as well as—

(a) The recommendation of a 3+2 review team consisting of experts selected by the Secretary. This review will be conducted during a one-day intensive meeting that will be held during the last half of the second year of the project period;

(b) The timeliness with which, and how well, the requirements of the negotiated cooperative agreement have been or are being met by the project; and

(c) The quality, relevance, and usefulness of the project's products and services and the extent to which the project's products and services are aligned with the project's objectives and likely to result in the project achieving its intended outcomes.

References

Bradshaw, C.P., Waasdorp, T.E., & Leaf, P.J. (2015). Examining variation in the impact of school-wide positive behavioral interventions and supports: Findings from a randomized controlled effectiveness trial. Journal of Educational Psychology, 107(2), 546-557.

Bradshaw, C.P., Koth, C.W., Thornton, L.A., & Leaf, P.J. (2009). Altering school climate through school-wide positive behavioral interventions and supports: Findings from a group-randomized effectiveness trial. Prevention Science. Retrieved from https://doi.org/10.1007/s11121-008-0114-9.

McIntosh, K., Filter, K.J., Bennett, J., Ryan, C., & Sugai, G. (2010). Principles of sustainable prevention: Designing scale-up of school-wide positive behavior support to promote durable systems. Psychology in the Schools, 47, 5-21.

Waasdorp, T.E., Bradshaw, C.P., & Leaf, P.J. (2012). The impact of schoolwide positive behavioral interventions and supports on bullying and peer rejection: A randomized controlled effectiveness trial. Archives of Pediatrics and Adolescent Medicine, 166(2), 149-56. doi: 10.1001/archpediatrics.2011.755.

Definitions

The following definition of “evidence-based” is from section 8101(21) of the ESEA, as amended, 20 U.S.C. 7801(21). The remaining definitions are from 34 CFR 77.1:

Evidence-based, when used with respect to a State, LEA, or school activity, means an activity, strategy, or intervention that—

(i) Demonstrates a statistically significant effect on improving student outcomes or other relevant outcomes based on—

(I) Strong evidence from at least one well-designed and well-implemented experimental study;

(II) Moderate evidence from at least one well-designed and well-implemented quasi-experimental study; or

(III) Promising evidence from at least one well-designed and well-implemented correlational study with statistical controls for selection bias; or

(ii)(I) Demonstrates a rationale based on high-quality research findings or positive evaluation that such activity, strategy, or intervention is likely to improve student outcomes or other relevant outcomes; and

(II) Includes ongoing efforts to examine the effects of such activity, strategy, or intervention.

Logic model (also referred to as a theory of action) means a framework that identifies key project components of the proposed project (i.e., the active “ingredients” that are hypothesized to be critical to achieving the relevant outcomes) and describes the theoretical and operational relationships among the key project components and relevant outcomes.

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Waiver of Proposed Rulemaking: Under the Administrative Procedure Act (APA) (5 U.S.C. 553) the Department generally offers interested parties the opportunity to comment on proposed priorities and requirements. Section 681(d) of IDEA, however, makes the public comment requirements of the APA inapplicable to Absolute Priority 1 in this notice. In addition, section 437(d)(1) of GEPA allows the Secretary to exempt from rulemaking requirements regulations governing the first grant competition under a new or substantially revised program authority. This is the first grant competition for both the School Safety National Activities Program under section 4631(a)(1)(B) of the ESEA and the National Activities for the SSAE Grants Program under section 4103(a)(3), and therefore qualifies for this exemption. In order to ensure timely grant awards, the Secretary has decided to forgo public comment on Absolute Priorities 2 and 3 and the requirements under section 437(d)(1) of GEPA. Absolute Priorities 2 and 3 and the requirements will apply to the FY 2018 grant competition and any subsequent year in which we make awards from the list of unfunded applications from this competition.

Program Authority: 20 U.S.C. 1463, 1481, 7113(a)(3), 7101, and 7281(a)(1)(B).

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations in 34 CFR part 299.

Note: The regulations in 34 CFR part 79 apply to all applicants except federally recognized Indian Tribes.

Note: The regulations in 34 CFR part 86 apply to institutions of higher education (IHEs) only.

II. Award Information

Type of Award: Cooperative agreement.

Estimated Available Funds: For Absolute Priority 1: $1,850,000.

For Absolute Priority 2: $3,750,000 from the School Safety National Activities Program.

For Absolute Priority 3: $750,000 from the SSAE Grants Program.

Note: We will make one award comprised of separate funding under each of the three absolute priorities. Therefore, applicants must submit a separate Form 524b budget and budget narrative for each absolute priority. The Secretary may reject any application that does not separately address the requirements specified in Absolute Priority 1, Absolute Priority 2, and Absolute Priority 3 and include separate budgets and budget narratives for each of those priorities.

Contingent upon the availability of funds and the quality of applications, we may make additional awards in FY 2019 from the list of unfunded applications from this competition.

Maximum Award: We will not make an award exceeding $1,850,000 for Absolute Priority 1 for a single budget period of 12 months. We will not make an award exceeding $3,750,000 for Absolute Priority 2 for a single budget period of 12 months. We will not make an award exceeding $750,000 for Absolute Priority 3 for a single budget period of 12 months.

Estimated Number of Awards: 1.

Note: The Department is not bound by any estimates in this notice.

Project Period: Up to 60 months.

III. Eligibility Information

1. Eligible Applicants: SEAs; LEAs, including charter schools that operate as LEAs under State law; IHEs; other public agencies; private nonprofit organizations; freely associated States and outlying areas; Indian Tribes or Tribal organizations; and for-profit organizations.

2. Cost Sharing or Matching: This program does not require cost sharing or matching.

3. Subgrantees: Under 34 CFR 75.708(b) and (c) a grantee under this competition may award subgrants—to directly carry out project activities described in its application—to the following types of entities: IHEs and private nonprofit organizations suitable to carry out the activities proposed in the application. The grantee may award subgrants to entities it has identified in an approved application.

4. Other General Requirements: (a) Recipients of funding under this competition must make positive efforts to employ and advance in employment qualified individuals with disabilities (see section 606 of IDEA).

(b) Applicants for, and recipients of, funding must, with respect to the aspects of their proposed project relating to Absolute Priority 1, involve individuals with disabilities, or parents of individuals with disabilities ages birth through 26, in planning, implementing, and evaluating the project (see section 682(a)(1)(A) of IDEA).

IV. Application and Submission Information

1. Application Submission Instructions: For information on how to submit an application please refer to our Common Instructions for Applicants to Department of Education Discretionary Grant Programs, published in the Federal Register on February 12, 2018 (83 FR 6003) and available at www.gpo.gov/fdsys/pkg/FR-2018-02-12/pdf/2018-02558.pdf.

2. Intergovernmental Review: This competition is subject to Executive Order 12372 and the regulations in 34 CFR part 79. However, under 34 CFR 79.8(a), we waive intergovernmental review in order to make an award by the end of FY 2018.

3. Funding Restrictions: We reference regulations outlining funding restrictions in the Applicable Regulations section of this notice.

4. Recommended Page Limit: The application narrative (Part III of the application) is where you, the applicant, address the selection criteria that reviewers use to evaluate your application. We recommend that you (1) limit the application narrative to no more than 100 pages, and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to Part I, the cover sheet; Part II, the budget section, including the narrative budget justification; Part IV, the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (10 points).

(1) The Secretary considers the significance of the proposed project.

(2) In determining the significance of the proposed project, the Secretary considers the following factors:

(i) The extent to which specific gaps or weaknesses in services, infrastructure, or opportunities have been identified and will be addressed by the proposed project, including the nature and magnitude of those gaps or weaknesses.

(ii) The importance or magnitude of the results or outcomes likely to be attained by the proposed project.

(b) Quality of project services (35 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable.

(ii) The extent to which there is a conceptual framework underlying the proposed research or demonstration activities and the quality of that framework.

(iii) The extent to which the services to be provided by the proposed project reflect up-to-date knowledge from research and effective practice.

(iv) The extent to which the training or professional development services to be provided by the proposed project are of sufficient quality, intensity, and duration to lead to improvements in practice among the recipients of those services.

(v) The extent to which the TA services to be provided by the proposed project involve the use of efficient strategies, including the use of technology, as appropriate, and the leveraging of non-project resources.

(c) Quality of the project evaluation (20 points).

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation provide for examining the effectiveness of project implementation strategies.

(iii) The extent to which the methods of evaluation will provide performance feedback and permit periodic assessment of progress toward achieving intended outcomes.

(iv) The extent to which the methods of evaluation include the use of objective performance measures that are clearly related to the intended outcomes of the project and will produce quantitative and qualitative data to the extent possible.

(d) Adequacy of resources and quality of project personnel (15 points).

(1) The Secretary considers the adequacy of resources for the proposed project and the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator.

(ii) The qualifications, including relevant training and experience, of key project personnel.

(iii) The qualifications, including relevant training and experience, of project consultants or subcontractors.

(iv) The qualifications, including relevant training, experience, and independence, of the evaluator.

(v) The adequacy of support, including facilities, equipment, supplies, and other resources, from the applicant organization or the lead applicant organization.

(vi) The relevance and demonstrated commitment of each partner in the proposed project to the implementation and success of the project.

(vii) The extent to which the budget is adequate to support the proposed project.

(viii) The extent to which the costs are reasonable in relation to the objectives, design, and potential significance of the proposed project.

(e) Quality of the management plan (20 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(iii) The adequacy of mechanisms for ensuring high-quality products and services from the proposed project.

(iv) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: Under the Government Performance and Results Act of 1993, the Department has established a set of performance measures, including long-term measures, that are designed to yield information on various aspects of the effectiveness and quality of the Technical Assistance and Dissemination to Improve Services and Results for Children With Disabilities program. These measures are:

• Program Performance Measure #1: The percentage of Technical Assistance and Dissemination products and services deemed to be of high quality by an independent review panel of experts qualified to review the substantive content of the products and services.

• Program Performance Measure #2: The percentage of Special Education Technical Assistance and Dissemination products and services deemed by an independent review panel of qualified experts to be of high relevance to educational and early intervention policy or practice.

• Program Performance Measure #3: The percentage of all Special Education Technical Assistance and Dissemination products and services deemed by an independent review panel of qualified experts to be useful to improve educational or early intervention policy or practice.

• Program Performance Measure #4: The cost efficiency of the Technical Assistance and Dissemination Program includes the percentage of milestones achieved in the current annual performance report period and the percentage of funds spent during the current fiscal year.

• Long-term Program Performance Measure: The percentage of States receiving Special Education Technical Assistance and Dissemination services regarding scientifically or evidence-based practices for infants, toddlers, children, and youth with disabilities that successfully promote the implementation of those practices in school districts and service agencies.

The measures apply to projects funded under this competition, and grantees are required to submit data on these measures as directed by OSEP.

Grantees will be required to report information on their project's performance in annual and final performance reports to the Department (34 CFR 75.590).

6. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) by contacting the Management Support Services Team, U.S. Department of Education, 400 Maryland Avenue SW, Room 5113, Potomac Center Plaza, Washington, DC 20202-2500. Telephone: (202) 245-7363. If you use a TDD or a TTY, call the FRS, toll free, at 1-800-877-8339.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: July 20, 2018.
Johnny W. Collett,
Assistant Secretary, Special Education and Rehabilitative Services.
Frank T. Brogan,
Assistant Secretary, Elementary and Secondary Education.

[FR Doc. 2018-15928 Filed 7-24-18; 8:45 am]

BILLING CODE 4000-01-P